NATIONAL CRIME PREVENTION AND PRIVACY COMPACT COUNCIL

Fingerprint Submission Requirements

AGENCY: National Crime Prevention and Privacy Compact Council.

ACTION: Notice of approval.

Authority: 42 U.S.C. 14616.

SUMMARY: Pursuant to 28 CFR part 901, the National Crime Prevention and Privacy Compact Council (Compact Council), established by the National Crime Prevention and Privacy Compact Act of 1998 (Compact), has approved a Federal Emergency Management Agency (FEMA) proposal to access the Interstate Identification Index (III) System on a delayed fingerprint submission basis when conducting pre-employment criminal history record checks on FEMA emergency workers during times of natural disasters and catastrophic emergencies. (See FEMA's request, attached) FEMA is authorized access to criminal history record information to conduct background checks on applicants for federal employment pursuant to title 28 United States Code section 534 and Executive Order 10450.

The FEMA's request was submitted by letter dated October 19, 2004, and approved by the Compact Council on November 4, 2004, pursuant to 28 CFR 901.2 and 901.3. Access to the III System to conduct name-based criminal history record checks, followed by fingerprint submissions, provides a responsive and timely avenue to support FEMA's need for expeditious pre-employment screening during exigent circumstances. An example of such need arose during 2004 when several hurricanes struck the southeastern portion of the United States causing the FEMA to hire large numbers of emergency workers in a short period of time. FEMA intends to enlist the services of the Federal Protective Service or another criminal justice agency with authorized direct access to the III System to conduct the preliminary III name checks on behalf of FEMA. Such name-based checks will be followed by submission of the applicant's fingerprints to the FBI within 5 working days.

FOR FURTHER INFORMATION CONTACT: Todd C. Commodore, FBI CJIS Division, 1000 Custer Hollow Road, Module C3, Clarksburg, WV 26306; Telephone (304) 625-2803; e-mail tcommodo@leo.gov; Fax number (304) 625-5388.

SUPPLEMENTARY INFORMATION: See attached proposal.

Dated: August 24, 2005.
Donna M. Uzzell,
Compact Council Chairman.

BILLING CODE 4410-02-P

[FR Doc. 05-18006 Filed 9-12-05; 8:45 am]

BILLING CODE 4410-02-C